DEPARTMENT OF DEFENSE

Office of the Secretary

Notice of Intent To Grant an Exclusive License; Nguran Corporation; Correction

AGENCY: National Security Agency, DoD.

ACTION: Notice; correction.

SUMMARY: On Friday, February 5, 2016 (81 FR 6244), the Department of Defense published a notice titled “Notice of Intent to Grant an Exclusive License; Nguran Corporation.” Subsequent to the publication of the notice, DoD realized that the patent number cited in the SUMMARY section was not correct. This notice corrects the patent number.

DATES: This correction is effective March 1, 2016.

FOR FURTHER INFORMATION CONTACT: Aaron Siegel, 571-372-0488.

SUPPLEMENTARY INFORMATION: On page 6244, in the SUMMARY section, in the second column, in the third and fourth lines from the top, “No. 14/120,606” should read “No. 14/120,626.”

Dated: February 24, 2016.
Aaron Siegel,
Alternate OSD Federal Register Liaison Officer, Department of Defense.

[FR Doc. 2016-04380 Filed 2-29-16; 8:45 am]

BILLING CODE 5001-06-P